DEPARTMENT OF HEALTH AND HUMAN SERVICES

National Institutes of Health

National Institute of Environmental Health Sciences; Notice of Meeting

Pursuant to section 1009 of the Federal Advisory Committee Act, as amended, notice is hereby given of a meeting of the Board of Scientific Counselors, National Institute Environmental Health Sciences.

The meeting will be open to the public as indicated below, with attendance limited to space available. Individuals who plan to attend and need special assistance, such as sign language interpretation or other reasonable accommodations, should notify the Contact Person listed below in advance of the meeting. The meeting can be accessed from the NIH Videocast at the following link: https://videocast.nih.gov/.

The meeting will be closed to the public as indicated below in accordance with the provisions set forth in sections 552b(c)(4) and 552b(c)(6), title 5 U.S.C., as amended for the review, discussion, and evaluation of individual grant applications conducted by the National Institute Of Environmental Health Sciences, including consideration of personnel qualifications and performance, and the competence of individual investigators, the disclosure of which would constitute a clearly unwarranted invasion of personal privacy.

Name of Committee: Board of Scientific Counselors, National Institute Environmental Health Sciences ESBSC, May 4-6, 2025 Meeting.

Date: May 4-6, 2025.

Closed: May 04, 2025, 7:00 p.m. to 9:00 p.m.

Agenda: To review and evaluate discussion of BSC Reviews.

Meeting Format: In Person and Virtual Meeting.

Open: May 05, 2025, 8:30 a.m. to 10:15 a.m.

Agenda: Meeting Overview.

Address: NIEHS/National Institutes of Health, Building 4401, East Campus, 79 T.W. Alexander Drive, Research Triangle Park, NC 27709, (Hybrid Meeting).

Open: May 05, 2025, 10:30 a.m. to 12:10 p.m.

Agenda: Q & A Sessions.

Address: NIEHS/National Institutes of Health, Building 4401, East Campus, 79 T.W. Alexander Drive, Research Triangle Park, NC 27709, (Hybrid Meeting).

Closed: May 05, 2025, 12:10 p.m. to 1:15 p.m.

Agenda: To review and evaluate working Lunch.

Address: NIEHS/National Institutes of Health, Building 4401, East Campus, 79 T.W. Alexander Drive, Research Triangle Park, NC 27709, (Hybrid Meeting).

Closed: May 05, 2025, 1:15 p.m. to 1:45 p.m.

Agenda: To review and evaluate sessions with Investigators.

Address: NIEHS/National Institutes of Health, Building 4401, East Campus, 79 T.W. Alexander Drive, Research Triangle Park, NC 27709, (Hybrid Meeting).

Open: May 05, 2025, 1:45 p.m. to 3:25 p.m.

Agenda: Q&A Sessions.

Address: NIEHS/National Institutes of Health, Building 4401, East Campus, 79 T.W. Alexander Drive, Research Triangle Park, NC 27709, (Hybrid Meeting).

Open: May 05, 2025, 3:40 p.m. to 4:30 p.m.

Agenda: Q & A Session.

Address: NIEHS/National Institutes of Health, Building 4401, East Campus, 79 T.W. Alexander Drive, Research Triangle Park, NC 27709, (Hybrid Meeting).

Closed: May 05, 2025, 4:30 p.m. to 5:15 p.m.

Agenda: To review and evaluate session with Investigator.

Address: NIEHS/National Institutes of Health, Building 4401, East Campus, 79 T.W. Alexander Drive, Research Triangle Park, NC 27709, (Hybrid Meeting).

Open: May 06, 2025, 8:30 a.m. to 10:10 a.m.

Agenda: Q & A Sessions.

Address: NIEHS/National Institutes of Health, Building 4401, East Campus, 79 T.W. Alexander Drive, Research Triangle Park, NC 27709, (Hybrid Meeting).

Closed: May 06, 2025, 10:10 a.m. to 10:40 a.m.

Agenda: To review and evaluate 1:1 Session with Investigator.

Address: NIEHS/National Institutes of Health, Building 4401, East Campus, 79 T.W. Alexander Drive, Research Triangle Park, NC 27709, (Hybrid Meeting).

Closed: May 06, 2025, 10:55 a.m. to 11:45 a.m.

Agenda: To review and evaluate 1:1 Session with Programmatic Staff Scientists.

Address: NIEHS/National Institutes of Health, Building 4401, East Campus, 79 T.W. Alexander Drive, Research Triangle Park, NC 27709, (Hybrid Meeting).

Closed: May 06, 2025, 11:45 a.m. to 1:00 p.m.

Agenda: To review and evaluate working Lunch.

Address: NIEHS/National Institutes of Health, Building 4401, East Campus, 79 T.W. Alexander Drive, Research Triangle Park, NC 27709, (Hybrid Meeting).

Open: May 06, 2025, 1:00 p.m. to 2:30 p.m.

Agenda: Poster Session.

Address: NIEHS/National Institutes of Health, Building 4401, East Campus, 79 T.W. Alexander Drive, Research Triangle Park, NC 27709. (Hybrid Meeting).

Closed: May 06, 2025, 2:30 p.m. to 3:30 p.m.

Agenda: To review and evaluate closed Session with Fellows, Biologists, and Staff Scientists.

Address: NIEHS/National Institutes of Health, Building 4401, East Campus, 79 T.W. Alexander Drive, Research Triangle Park, NC 27709, (Hybrid Meeting).

Closed: May 06, 2025, 3:45 p.m. to 4:50 p.m.

Agenda: To review and evaluate closed BSC Discussion.

Address: NIEHS/National Institutes of Health, Building 4401, East Campus, 79 T.W. Alexander Drive, Research Triangle Park, NC 27709, (Hybrid Meeting).

Closed: May 06, 2025, 4:50 p.m. to 5:40 p.m.

Agenda: To review and evaluate closed—Debriefing to NIEHS/DIR Leadership.

Address: NIEHS/National Institutes of Health, Building 4401, East Campus, 79 T.W. Alexander Drive, Research Triangle Park, NC 27709, (Hybrid Meeting).

Contact Person: Darryl C. Zeldin, MD, National Institute Environmental Health Sciences (NIEHS), 111 T.W. Alexander Drive, Research Triangle Park, NC 27709, 984-287-3641, zeldin@niehs.nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus Federal facility will be asked to show one form of identification (for example, a government-issued photo ID, driver's license, or passport) and to state the purpose of their visit.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: March 18, 2025.
Bruce A. George,
Program Analyst, Office of Federal Advisory Committee Policy.

[FR Doc. 2025-04912 Filed 3-21-25; 8:45 am]

BILLING CODE 4140-01-P